DEPARTMENT OF COMMERCE

International Trade Administration

[C-533-825]

Notice of Postponement of Preliminary Determination of Countervailing Duty Investigation: Polyethylene Terephthalate Film, Sheet, and Strip (PET film) From India

AGENCY: Import Administration, International Trade Administration, Department of Commerce.

EFFECTIVE DATE: July 26, 2001.

FOR FURTHER INFORMATION CONTACT: Alexander Amdur or Michele Mire at (202) 482-5346 or (202) 482-4711, respectively; AD/CVD Enforcement, Office 4, Group II, Import Administration, Room 1870, International Trade Administration, U.S. Department of Commerce, 14th Street and Constitution Avenue, NW., Washington, DC 20230.

The Applicable Statute and Regulations

Unless otherwise indicated, all citations to the statute are references to the provisions effective January 1, 1995, the effective date of the amendments made to the Tariff Act of 1930 (the Act) by the Uruguay Round Agreements Act (URAA). In addition, unless otherwise indicated, all citations to Department of Commerce (the Department) regulations refer to the regulations codified at 19 CFR Part 351 (2001).

Background

The Department initiated this investigation on June 6, 2001, and published a notice of initiation on June 13, 2001. See Initiation of Countervailing Duty Investigation: Polyethylene Terephthalate Film, Sheet, and Strip (PET film) from India, 66 FR 31892 (June 13, 2001). Currently, the preliminary determination is due no later than August 10, 2001.

Postponement of Preliminary Determination

Section 703(c)(1)(B) of the Act provides that a preliminary determination may be postponed until not later than 130 days after the date on which the investigation was initiated if the Department determines that the case is extraordinarily complicated and additional time is necessary to make the preliminary determination.

The Department has determined that this investigation is extraordinarily complicated due to the number and complexity of the alleged countervailable subsidy practices—both national and regional subsidy programs are alleged—and because this is the first countervailing duty investigation of the Indian PET film industry. Furthermore, additional time is required to allow the Department to analyze thoroughly the responses to its countervailing duty questionnaire, as well as issue a supplemental questionnaire.

Accordingly, pursuant to sections 703(c)(1)(B)(i)(I), 703(c)(1)(B)(i)(II), and 703(c)(1)(B)(ii) of the Act and the Department's regulations at 19 CFR 351.205(b)(2), we are postponing the preliminary determination until not later than Monday, October 15, 2001, which is 130 days after the date of initiation.

This notice is published in accordance with section 703(c)(2) of the Act and 19 CFR 351.205(f)(1) of the Department's regulations.

Dated: July 19, 2001.
Faryar Shirzad,
Assistant Secretary for Import Administration.

[FR Doc. 01-18667 Filed 7-25-01; 8:45 am]

BILLING CODE 3510-DS-P